DEPARTMENT OF VETERANS AFFAIRS

Privacy Act of 1974; System of Records

AGENCY: Department of Veterans Affairs (VA).

ACTION: Notice of Amendment to System of Records.

SUMMARY: As required by the Privacy Act of 1974, 5 U.S.C. 552a(e), notice is hereby given that the Department of Veterans Affairs (VA) is amending the system of records currently entitled “Health Professional Scholarship Program—VA” (73VA14) as set forth in the Federal Register 58 FR 40852. VA is amending the system of records by revising the System Location, Purpose, Routine Use of Records Maintained in the System, Including Categories of Users and the Purposes of Such Uses, System Manager and Address, and Record Access Procedure. VA is republishing the system notice in its entirety.

DATES: Comments on the amendment of this system of records must be received no later than December 28, 2009. If no public comment is received, the amended system will become effective December 28, 2009.

ADDRESSES: Written comments may be submitted through www.Regulations.gov; by mail or hand-delivery to Director, Regulations Management (02REG), Department of Veterans Affairs, 810 Vermont Avenue, NW., Room 1068, Washington, DC 20420; or by fax to (202) 273-9026. Comments received will be available for public inspection in the Office of Regulation Policy and Management, Room 1063B, between the hours of 8:00 a.m. and 4:30 p.m., Monday through Friday (except holidays). Please call (202) 461-4902 (this is not a toll-free number) for an appointment. In addition, during the comment period, comments may be viewed online through the Federal Docket Management System (FDMS) at www.Regulations.gov.

FOR FURTHER INFORMATION CONTACT: Veterans Health Administration (VHA) Privacy Officer, Department of Veterans Affairs, 810 Vermont Avenue, NW., Washington, DC 20420; telephone (704) 245-2492.

SUPPLEMENTARY INFORMATION: VA is also proposing to add the following routine use disclosure of information maintained in the system:

• Routine Use 13 was added. Disclosure may be made to the National Archives and Records Administration (NARA) and the General Services Administration (GSA) in records management inspections conducted under authority of Title 44 U.S.C.

• Routine Use 14 was added. Disclosure of relevant information may be made to individuals, organizations, private or public agencies, or other entities with whom VA has a contract or agreement, or where there is a subcontract to perform such services as VA may deem practicable for the purposes of laws administered by VA, in order for the contractor or subcontractor to perform the services of the contract or agreement.

• Routine Use 15 was added. VA may disclose on its own initiative any information in the system, except the names and home addresses of Veterans and their dependents, that is relevant to a suspected or reasonably imminent violation of the law whether civil, criminal, or regulatory in nature, and whether arising by general or program statute or by regulation, rule, or order issued pursuant thereto, to a Federal, state, local, tribal, or foreign agency charged with the responsibility of investigating or prosecuting such violation, or charged with enforcing or implementing the statute, regulation, rule, or order. VA may also disclose on its own initiative the names and addresses of Veterans and their dependents to a Federal agency charged with the responsibility of investigating or prosecuting civil, criminal, or regulatory violations of law, or charged with enforcing or implementing the statute, regulation, or order issued pursuant thereto.

• Routine Use 16 was added. Disclosure to other Federal agencies may be made to assist such agencies in preventing and detecting possible fraud or abuse by individuals in their operations and programs.

• Routine Use 17 was added. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

The Report of Intent to Amend a System on Records Notice and an advance copy of the system notice have been sent to the appropriate Congressional committees and to the Director of the Office of Management and Budget (OMB) as required by 5 U.S.C. 552a(r) (Privacy Act) and guidelines issued by OMB (65 FR 77677), December 12, 2000.

Approved November 9, 2009.
John R. Gingrich,
Chief of Staff, Department of Veterans Affairs.

73VA14

SYSTEM NAME:

Health Professional Scholarship Program—VA.

SYSTEM LOCATION:

Active records will be maintained at the Office of Academic Affiliations (OAA), Veterans Health Administration, Veterans Administration Central Office (VACO), 810 Vermont Avenue, NW., Washington, DC 20420, and the Data Processing Center, Department of Veterans Affairs, 1615 East Woodward Street, Austin, TX 78772. Complete records will be maintained only at the VACO address.

CATEGORIES OF INDIVIDUALS COVERED BY THE SYSTEM:

Individuals who apply for and are awarded scholarships under the provisions of the Veterans Administration Health Professional Scholarship Program in the fields of medicine, osteopathy and nursing.

Categories of records in the system:

Records (or information contained in records) in this system may include: Personal identification information related to the application material, to award processes, to employment, and to obligated service, such as (1) name, (2) address, (3) telephone number, (4) social security number, (5) award amounts, (6) obligated service incurred; and payment information such as name and address of the educational institution or any amount of indebtedness (accounts receivable) arising from the scholarship and owed to VA.

Authority for maintenance of the system:

Title 38, U.S.C. 210(c), 4141-4146 and 4118.

PURPOSE(S):

These records support the Health Professional Scholarship Program. The Health Professional Scholarship Program was established by Public Law 96-330, and awarded scholarships from 1982 through 1995 to 3,330 students earning baccalaureate and master's degrees in nursing and other health professions. These records consist of application materials and records that document the completion of the service obligation. Occasionally, there is a record of waiver of financial payback or default on obligation for service. Records of individuals who default remain indefinitely in the program office because records are required for review and decision-making in the case of waiver requests years in the future. If the scholarship program is re-authorized, additional records will be accrued.

Routine uses of records maintained in the system, including categories of users and the purposes of such uses:

To the extent that records contained in the system include information protected by 45 CFR Parts 160 and 164, i.e., individually identifiable health information, and 38 U.S.C. 7332, i.e., medical treatment information related to drug abuse, alcoholism or alcohol abuse, sickle cell anemia or infection with the human immunodeficiency virus, that information cannot be disclosed under a routine use unless there is also specific statutory authority in 38 U.S.C. 7332 and regulatory authority in 45 CFR Parts 160 and 164 permitting disclosure.

1. The record of an individual who is covered by this system may be disclosed to a member of Congress or staff person acting for the member when the member or staff person requests the record on behalf of and at the request of that individual.

2. Any information in this system may be disclosed to a Federal, state or local agency, upon its official request, to the extent that it is relevant and necessary to that agency's decision on: The hiring, transfer or retention of an employee, the issuance of a security clearance, the letting of a contract, or the issuance or continuance of a license, grant or other benefit by that agency.

3. Any information in this system may be disclosed to a Federal, state or local agency maintaining civil or criminal violation records, or other pertinent information such as prior employment history, prior Federal employment background investigations, and personal or educational background in order for VA to obtain information relevant to the hiring, transfer or retention of an employee, the letting of a contract, the granting of a security clearance, or the issuance of a grant or other benefit.

4. Any information in this system may be disclosed to a Federal agency in order to determine if an applicant has an obligation for service under another Federal program, thus rendering the applicant ineligible for a VA scholarship. (38 U.S.C. 4142(a)(4)).

5. Any information in this system pertaining to individuals eligible for scholarships may be disclosed to educational institutions in order to assist in the administration of this program.

6. Award payment information may be disclosed to the Treasury Department to permit delivery of scholarship-related checks to students and to educational institutions.

7. Any information in this system, including available identifying information regarding the debtor, such as name, place of birth, and date of birth of the debtor may be disclosed under this routine use to Federal, state or consumer reporting agencies in order to obtain current name, address, locator and credit report in connection with any proceeding for the collection of an amount owed to the United States by virtue of an individual's participation in the VA Health Professional Scholarship Program.

8. Any information in this system may be disclosed to the Department of Justice (DOJ), including U.S. Attorneys, in order for VA to respond to pleadings, interrogatories, orders or inquiries from DOJ, and to supply DOJ with information in any phase of litigation or in any case or controversy involving VA.

9. Any information in this system may be disclosed to educational institutions, previous employers or individuals providing references to verify the authenticity of the application.

10. Records from this system of records may be disclosed to a Federal Agency or to a state or local government licensing board and to the Federation of State Medical Boards or a similar nongovernment entity which maintains records concerning individuals' employment histories or concerning the issuance, retention or revocation of licenses, certifications, or registration necessary to practice an occupation, profession or specialty, in order for the Agency to obtain information relevant to an Agency decision concerning the hiring, retention or termination of an employee or to inform a Federal Agency or licensing boards or the appropriate nongovernment entities about the health care practices of a terminated, resigned or retired health care employee whose professional health care activity so significantly failed to conform to generally accepted standards of professional medical practice as to raise reasonable concern for the health and safety of patients in the private sector or from another Federal agency. These records may also be disclosed as part of an ongoing computer matching program to accomplish these purposes.

11. Identifying information in this system, including name, address, social security number and other information as is reasonably necessary to identify such individual, may be disclosed to the National Practitioner Data Bank at the time of hiring or clinical privileging/reprivileging of health care practitioners, and other times as deemed necessary by VA, in order for VA to obtain information relevant to a Department decision concerning the hiring, privileging/reprivileging, retention or termination of the applicant or employee.

12. Relevant information from this system of records may be disclosed to the National Practitioner Data Bank or State Licensing Board in the state(s) in which a practitioner is licensed, in which the VA facility is located, or in which an act or omission occurred upon which a medical malpractice claim was based when VA reports information concerning: (1) Any payment for the benefit of a physician, dentist, or other licensed health care practitioner which was made as the result of a settlement or judgment of a claim of medical malpractice if an appropriate determination is made in accordance with agency policy that payment was related to substandard care, professional incompetence or professional misconduct on the part of the individual; (2) a final decision which relates to possible incompetence or improper professional conduct that adversely affects the clinical privileges of a physician or dentist for a period longer than 30 days; or, (3) the acceptance of the surrender of clinical privileges or any restriction of such privileges by a physician or dentist either while under investigation by the health care entity relating to possible incompetence or improper professional conduct, or in return for not conducting such an investigation or proceeding. These records may also be disclosed as part of a computer matching program to accomplish these purposes.

13. Disclosure may be made to the National Archives and Records Administration (NARA) and the General Services Administration (GSA) in records management inspections conducted under authority of Title 44 U.S.C.

14. Disclosure of relevant information may be made to individuals, organizations, private or public agencies, or other entities with whom VA has a contract or agreement or where there is a subcontract to perform such services as VA may deem practicable for the purposes of laws administered by VA, in order for the contractor or subcontractor to perform the services of the contract or agreement.

15. VA may disclose on its own initiative any information in the system, except the names and home addresses of Veterans and their dependents, that is relevant to a suspected or reasonably imminent violation of the law whether civil, criminal, or regulatory in nature and whether arising by general or program statute or by regulation, rule, or order issued pursuant thereto, to a Federal, state, local, tribal, or foreign agency charged with the responsibility of investigating or prosecuting such violation, or charged with enforcing or implementing the statute, regulation, rule, or order. VA may also disclose on its own initiative the names and addresses of Veterans and their dependents to a Federal agency charged with the responsibility of investigating or prosecuting civil, criminal, or regulatory violations of law, or charged with enforcing or implementing the statute, regulation, or order issued pursuant thereto.

16. Disclosure to other Federal agencies may be made to assist such agencies in preventing and detecting possible fraud or abuse by individuals in their operations and programs.

17. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

POLICIES AND PRACTICES FOR STORING, RETRIEVING, ACCESSING, RETAINING, AND DISPOSING OF RECORDS IN THE SYSTEM:

Storage

Records are maintained on magnetic tape and computer printouts at the VA Data Processing Center (DPC), and in file folders, computer printouts and electronic files at VACO.

Retrievability

Records are retrievable by use of the award number, social security number and the name of the individual.

Safeguards

Access to the basic file in the Austin DPC is restricted to authorized VA employees and vendors. Access to the computer room where the magnetic tape is located within the DPC is further restricted to specifically authorized employees and is protected by an alarm system, the Federal Protective Service and other VA security personnel. Records at VA Central Office will be kept in locked files and made available only to authorized personnel on a need-to-know basis. During non-working hours the file is locked and the building is protected by the Federal Protective Service.

Retention and Disposal

Records will be maintained and disposed of in accordance with records disposition authority approved by the Archivist of the United States.

System Manager(s) and Address:

Chief Academic Affiliations Officer, Office of Academic Affiliations (14), Department of Veterans Health Administration, VA Central Office, 810 Vermont Avenue, NW., Washington, DC 20420.

Notification Procedure

Any individual who wishes to determine whether a record is being maintained in this system under his or her name or other personal identifier, or wants to determine the contents of such records, should submit a written request or apply in person to the Chief Academic Affiliations Officer, Office of Academic Affiliations (14), Veterans Health Administration, VA Central Office, 810 Vermont Avenue, NW., Washington, DC 20420.

Record Access Procedure

Individuals seeking information regarding access to and contesting of VA records in this system may write, call or visit the Chief Academic Affiliations Officer, Office of Academic Affiliations (14), Veterans Health Administration, VA Central Office, 810 Vermont Avenue, NW., Washington, DC 20420.

Contesting Record Procedures

(See Record Access Procedures above.)

Record Source Categories

Information contained in the records is obtained from the individual, references given in application material, educational institutions, VA medical facilities, the VA DPC, other Federal agencies, state agencies and consumer reporting agencies.

[FR Doc. E9-28387 Filed 11-25-09; 8:45 am]

BILLING CODE 8320-01-P